DEPARTMENT OF VETERANS AFFAIRS

[OMB Control No. 2900-NEW—ALS]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before October 17, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to 2900-New—ALS.”

Send comments and recommendations concerning any aspect of the information collection to VA's OMB Desk Officer, OMB Human Resources and Housing Branch, New Executive Office Building, Room 10235, Washington, DC 20503 (202) 395-7316. Please refer to “2900-New-ALS.”

SUPPLEMENTARY INFORMATION: Titles:

a. National Registry of Veterans with Amyotrophic Lateral Sclerosis (ALS), ALS Initial Baseline Screening Form, VA Form, 10-21047.

b. VA Research Consent Form, VA Form 10-1086.

c. National Registry of Veterans with Amyotrophic Lateral Sclerosis (ALS), ALS Registry Phone Interviews, VA Form 10-21047a.

Type of Review: New collection.

Abstract: Amyotrophic Lateral Sclerosis (ALS) is a disease of high priority to the Department of Veterans Affairs because of ongoing concerns about the health of veterans who served in the Gulf War. The creation of the registry will have significance both for VA and for the larger U.S. society in understanding the natural history of ALS. It will provide VA with crucial epidemiological data on the current population of veterans with ALS, as well as the ongoing identification of new cases. The data will help VA to understand how veterans are affected by ALS, assist with early identification of new ALS clusters, provide a mechanism for informing veterans with ALS of new clinical drug trials and other studies, and examine the causes (e.g., genetic and environmental) and course of this disease.

An agency may not conduct or sponsor, and a person is not required to respond to a collection of information unless it displays a currently valid OMB control number. The Federal Register Notice with a 60-day comment period soliciting comments on this collection of information was published on May 6, 2003 at page 24050.

Affected Public: Individuals or households.

Estimated Annual Burden:

a. National Registry of Veterans with Amyotrophic Lateral Sclerosis (ALS), ALS Initial Baseline Screening Form, VA Form, 10-21047—365 hours.

b. VA Research Consent Form, VA Form 10-1086—207 hours.

c. National Registry of Veterans with Amyotrophic Lateral Sclerosis (ALS), ALS Registry Phone Interviews, VA Form 10-21047a—1,237 hours.

Estimated Average Burden Per Respondent:

a. National Registry of Veterans with Amyotrophic Lateral Sclerosis (ALS), ALS Initial Baseline Screening Form, VA Form, 10-21047—30 minutes.

b. VA Research Consent Form, VA Form 10-1086—20 minutes.

c. National Registry of Veterans with Amyotrophic Lateral Sclerosis (ALS), ALS Registry Phone Interviews, VA Form 21047a—30 minutes.

Frequency of Response: Semi-annually.

Estimated Number of Respondents:

a. National Registry of Veterans with Amyotrophic Lateral Sclerosis (ALS), ALS Initial Baseline Screening Form, VA Form, 10-21047—729.

b. VA Research Consent Form, VA Form 10-1086—620.

c. National Registry of Veterans with Amyotrophic Lateral Sclerosis (ALS), ALS Registry Phone Interviews, VA Form 10-21047a—1,431.

Estimated Number of Responses:

a. National Registry of Veterans with Amyotrophic Lateral Sclerosis (ALS), ALS Initial Baseline Screening Form, VA Form, 10-21047—729.

b. VA Research Consent Form, VA Form 10-1086—620.

c. National Registry of Veterans with Amyotrophic Lateral Sclerosis (ALS), ALS Registry Phone Interviews, 10-21047a—2,474.

Dated: September 9, 2003.
By direction of the Secretary.
Jacqueline Parks,
IT Specialist, Records Management Service.

[FR Doc. 03-23625 Filed 9-16-03; 8:45 am]

BILLING CODE 8320-01-P